DEPARTMENT OF AGRICULTURE

Forest Service

National Survey on Recreation and the Environment

AGENCY: Forest Service, USDA.

ACTION: Notice of intent: request for comments.

SUMMARY: In accordance with the Paperwork Reduction Act of 1995, Public Law 104-13 (44 U.S.C. 3506(c)(2)(A)), the U.S. Department of Agriculture, Forest Service, as part of its continuing effort to reduce paperwork and respondent burden, is seeking comments from all interested individuals and organizations on an extension of a previously approved information collection for a National Survey on Recreation and the Environment.

DATES: Comments must be received in writing on or before August 25, 2003.

ADDRESSES: Send written comments to H. Ken Cordell, USDA Forest Service, 320 Green Street, Athens, GA 30602-2044. The public may inspect comments in Research Work Unit SRS-4901, USDA Forest Service, 320 Green Street, Athens, GA 30602-2044.

FOR FURTHER INFORMATION CONTACT: H. Ken Cordell at (703) 559-4264, or email kcordell@fs.fed.us.

SUPPLEMENTARY INFORMATION:

Description of Information Collection

OMB Number: 0596-0127.

Expiration date: 10/31/2003.

Form Number: None.

Type of Review: Regular submission. Renewal of previously approved collection.

Affected Public: American civilians, age 16 and older, living in U.S. households.

Estimated Number of Respondents: 75,000 total, 25,000 per year over 3 years.

Estimated Time Per Response: 15 minutes average response time.

Estimated Total Annual Burden Hours: 6,250.

Estimated Total Annual Cost to Public: $0.

Abstract: The National Survey on Recreation and the Environment (NSRE) was established through a multi-agency partnership with the U.S. Department of Agriculture, Forest Service and the U.S. Department of Commerce, National Oceanic and Atmospheric Administration as the lead agencies. The NSRE 2005 is the eighth edition of this survey administered since 1960. The survey is used: (1) To measure the outdoor recreation demands the public makes on the Nation's land, water and other natural resources ; (2) to identify the public's perceptions of accessibility to recreational sites, especially persons with disabilities; (3) to gain public feedback about the management of public recreation sites and natural resources; (4) to request public opinion regarding how public agencies can improve management of public recreation areas and natural resources; (5) to understand public attitudes about the environment and preferences of visitors for public and private recreational sites; and (6) to keep abreast of shifts in recreational demands that might influence delivery of recreational services.

Method of Collection

The NSRE 2005 will be conducted via telephone to a representative sample population of 75,000 American civilians (25,000 per year over a three year period), age 16 or older, living in U.S. households. The data collected will be used to conduct a stratified random sample based on geographic subgroups including urban, rural, and near urban locations.

The NSRE 2005 consists of 15 versions, each made up of sets of questions called modules. Activity participation and demographics modules constitute the core of each version of the survey. A nationally representative sample of approximately 5,000 people will be surveyed for each version. Some over-sampling will be done to ensure a minimum sample size of 500 per State across all versions or for some modules that focus on rural outdoor recreation use (i.e., over-sampling of people living in rural areas). All versions are tested in advance to ensure a 15-minute average completion time. The U.S. Department of Commerce, Bureau of the Census, 2000 Census data is used to construct post-sample weights to correct for over-sampling.

Both English and Spanish versions of the questionnaires are used and interviews are conducted bilingually to overcome language barriers.

Request for Comments

The agency invites comments on the following: (a) The necessity of the proposed information collection for the proper performance of agency functions, including the practical utility of the information; (b) the accuracy of the Agency's estimate of the burden of the proposed collection of information, including the validity of the methodology and assumptions used; (c) the enhancements of the quality, utility, and clarity of the information to be collected; and (d) the minimization of the burden of collection of information on respondents, including the use of automated, electronic, mechanical, or other technological collection techniques or other forms of information technology.

Use of Comments

All comments, including name and address when provided, will become a matter of public record. Comments received in response to this notice will be summarized and included in the request for Office of Management and Budget approval.

Dated: June 13, 2003.
Robert Lewis, Jr.,
Deputy Chief, Research & Development.

[FR Doc. 03-16100 Filed 6-25-03; 8:45 am]

BILLING CODE 3410-11-P